ENVIRONMENTAL PROTECTION AGENCY

[FRL-7145-3]

Taylor Lumber & Treating Superfund Site Notice of Proposed Administrative Settlement

AGENCY: Environmental Protection Agency (EPA).

ACTION: Notice; request for public comment.

SUMMARY: In accordance with the Comprehensive Environmental Response, Compensation and Liability Act of 1980 (CERCLA), 42 U.S.C. 9601 et seq., notice is hereby given that a proposed Agreement and Covenant Not to Sue (Prospective Purchaser Agreement) associated with the Taylor Lumber & Treating National Priorities List Superfund site was executed by the United States Environment Protection Agency (EPA) on February 1, 2002. The proposed Prospective Purchaser Agreement would resolve certain potential claims of the United States under sections 106 and 107(a) of CERCLA, 42 U.S.C. 9606 and 9607(a), against Pacific Wood Preserving of Oregon (“PWPO”), a Nevada corporation.

DATES: Comments must be submitted on or before February 28, 2002.

ADDRESSES: The proposed Prospective Purchaser Agreement and additional background documents relating to the settlement are available for public inspection at the U.S. Environmental Protection Agency, 1200 Sixth Ave., Seattle, WA 98101. A copy of the propoosed settlement may be obtained from Jennifer Byrne, Assistant Regional Counsel (ORC-158), Office of Regional Counsel, U.S. EPA Region 10, Seattle, WA 98101. Comments should reference “Pacific Wood Preserving of Oregon PPA, Taylor Lumber & Treating Superfund Site” and “Docket No. CERCLA-10-2002-0034” and should be addressed to Jennifer Byrne at the above address.

FOR FURTHER INFORMATION CONTACT: Jennifer Byrne, Assistant Regional Counsel (ORC-158), Office of Regional Counsel, U.S. EPA Region 10, Seattle, WA 9810; phone: (206) 553-0050; fax: (206) 553-0163; e-mail: byrne.jennifer@epa.gov.

SUPPLEMENTARY INFORMATION: Pacific Wood Preserving of Oregon (PWPO) plans to acquire a 34-acre parcel, constituting a major portion of the Superfund Site, located at 22125 S.W. Rock Creek Road in Sheridan, Oregon. PWPO intends to conduct a business on the parcel involving the treatment of lumber products and poles with preservatives that have relatively low environmental impact and toxicity and are distinguishable from preservatives presently found on the Site. PWPO's acquisition of the parcel occurs under the supervision of the United States Bankruptcy Court, District of Oregon, where Taylor Lumber & Treating, the current owner of the parcel, has filed a Chapter 11 bankruptcy petition.

In exchange for the settlement, EPA will receive $500,000 in cash, which will be placed in a special account for use at the Site. In addition, PWPO has agreed to operate and maintain a groundwater extraction and disposal system, to maintain the existing asphalt cover, and to maintain the contaminated soil storage cells. Further, PWPO has agreed not to treat wood with solutions containing ammoniacal copper zinc arsenate, cooper chromated arsenate, pentachlorophenol, creosote, or any arsenical wood-preserving compounds.

Because of the schedule in the bankruptcy proceeding, EPA is allowing fourteen days for public comments. For fourteen calendar days following the date of publication of this notice, EPA will receive written comments relating to the proposed Prospective Purchaser Agreement. EPA's response to any comments received will be available for public inspection at the U.S. Environmental Protection Agency, 1200 Sixth Ave., Seattle, WA 98101.

Dated: February 1, 2002.
L. John Iani,
Regional Administrator, Region 10.

[FR Doc. 02-3656 Filed 2-13-02; 8:45 am]

BILLING CODE 6560-50-M